COMMITTEE FOR PURCHASE FROM PEOPLE WHO ARE BLIND OR SEVERELY DISABLED

Procurement List; Proposed additions

AGENCY: Committee for Purchase From People Who Are Blind or Severely Disabled.

ACTION: Proposed Additions to and Deletions from the Procurement List.

SUMMARY: The Committee is proposing to add product(s) and service(s) to the Procurement List that will be furnished by nonprofit agencies employing persons who are blind or have other severe disabilities.

DATES: Comments must be received on or before: August 10, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-2.4(b), Government personnel within the contracting activity have identified this as a product requirement not applicable to other Federal entities and has requested the Committee consider granting a purchase or distribution preference if the product is added to the Procurement List. See 71 FR 69536 (Dec. 1, 2006). If the Committee grants this request, the products listed below will not be available through the U.S. AbilityOne Commission's Commercial Distribution Program. The Committee will consider this request along with relevant comments received from interested parties.

The following product(s) are proposed for addition to the Procurement List for production by the nonprofit agencies listed:

Product(s)

NSN(s)—Product Name(s): 750061601N—Copy Paper, Premium Multi-Purpose, 8.5″ x 11″, 2500 Sheet Convenience Pack, 30% Recycled; 750061602N—Copy Paper, Premium Multi-Purpose, Bulk, 8.5″ x 11″, 30% Recycled

Authorized Source of Supply: Association for Vision Rehabilitation and Employment, Inc., Binghamton, NY

Mandatory For: Bureau of the Census

Contracting Activity: BUREAU OF THE CENSUS, DEPT OF COMM/BUREAU OF THE CENSUS

Distribution: C-List in accordance with 41 CFR 51-5.3(b), the Committee intends to add these services requirement to the Procurement List as a mandatory purchase only for contracting activities and locations listed, with the proposed qualified nonprofit agencies as the authorized source of supply. Prior to adding the service to the Procurement List, the Committee will consider other pertinent information, including information from Government personnel and relevant comments from interested parties regarding the Committee's intent to geographically limit this services requirement.

The following services(s) are proposed for addition to the Procurement List for delivery by the nonprofit agencies listed:

Service(s)

Service Type: Civil Engineering Base Maintenance Support

Mandatory for: US Air Force, United States Air Force Academy (includes Farish Recreational Area and Bullseye Auxiliary Airfield), USAF Academy, CO

Authorized Source of Supply: Skookum Educational Programs, Bremerton, WA

Contracting Activity: DEPT OF THE AIR FORCE, FA7000 10 CONS LGC

Service Type: Administrative Support Service

Mandatory for: US Census Bureau, National Processing Center, Jeffersonville, IN and US Census Bureau Headquarters, Suitland, MD

Authorized Source of Supply: ServiceSource, Inc., Oakton, VA

Contracting Activity: US CENSUS BUREAU, DEPT OF COMMERCE CENSUS

Michael R. Jurkowski,
Director, Business Operations.

[FR Doc. 2025-12835 Filed 7-9-25; 8:45 am]

BILLING CODE 6353-01-P